ENVIRONMENTAL PROTECTION AGENCY

40 CFR Part 52

[EPA-R09-OAR-2020-0136; FRL-10012-22-Region 9]

Air Plan Partial Approval and Partial Disapproval; California; San Diego

AGENCY: Environmental Protection Agency (EPA).

ACTION: Proposed rule.

SUMMARY: The Environmental Protection Agency (EPA) is proposing to partially approve and partially disapprove revisions to the San Diego Air Pollution Control District (SDAPCD) portion of the California State Implementation Plan (SIP). These revisions concern the District's demonstration regarding reasonably available control technology (RACT) requirements and negative declarations for the 2008 ozone national ambient air quality standards (NAAQS or “standards”) in the San Diego ozone nonattainment area (NAA) under the jurisdiction of the SDAPCD. We are taking comments on this proposal and plan to follow with a final action.

DATES: Comments must be received on or before September 9, 2020.

ADDRESSES: Submit your comments, identified by Docket ID No. EPA-R09-OAR-2020-0136 at https://www.regulations.gov. For comments submitted at Regulations.gov, follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact the person identified in the FOR FURTHER INFORMATION CONTACT section. For the full EPA public comment policy, information about CBI or multimedia submissions, and general guidance on making effective comments, please visit https://www.epa.gov/dockets/commenting-epa-dockets.

FOR FURTHER INFORMATION CONTACT: Nancy Levin, EPA Region IX, 75 Hawthorne St., San Francisco, CA 94105. By phone: (415) 972-3848 or by email at levin.nancy@epa.gov.

SUPPLEMENTARY INFORMATION: Throughout this document, “we,” “us” and “our” refer to the EPA.

Table of Contents

I. The State's Submittal

A. What document did the State submit?

B. Are there other versions of this document?

C. What is the purpose of the submitted document?

II. The EPA's Evaluation and Action

A. How is the EPA evaluating the submitted document?

B. Does the document meet the evaluation criteria?

C. What are the deficiencies?

D. EPA Recommendations to Further Improve the RACT SIP

E. Public Comment And Proposed Action

III. Statutory and Executive Order Reviews

I. The State's Submittal

A. What document did the State submit?

Table 1 lists the document addressed by this proposal with the date that it was adopted by the local air agency and submitted by the California Air Resources Board (CARB).

Table 1—Submitted Document
Local agency | Document | Adopted | Submitted
SDAPCD | 2008 Eight-Hour Ozone Reasonably Available Control Technology Demonstration for San Diego County (“2016 RACT SIP”) | 12/14/16 | 4/12/2017

On October 12, 2017, the submittal for the SDAPCD 2016 RACT SIP was deemed by operation of law to meet the completeness criteria in 40 CFR part 51 Appendix V, which must be met before formal EPA review.

B. Are there other versions of this document?

There are no previous versions of the RACT SIP and negative declarations in the SDAPCD portion of the California SIP for the 2008 ozone NAAQS.

C. What is the purpose of the submitted document?

Emissions of volatile organic compounds (VOCs) and oxides of nitrogen (NOX) contribute to the production of ground-level ozone, smog and particulate matter (PM), which harm human health and the environment. Section 110(a) of the CAA requires states to submit regulations that control VOC and NOX emissions. Sections 182(b)(2) and (f) require that SIPs for ozone NAAs classified as Moderate or above implement RACT for any source covered by a Control Techniques Guidelines (CTG) document and for any major source of VOCs or NOX. The SDAPCD is subject to this requirement as it regulates the San Diego ozone NAA that was designated and classified as a Moderate NAA for the 2008 ozone NAAQS at the time of submittal.¹ Therefore, the SDAPCD must, at a minimum, adopt RACT-level controls for all sources covered by a CTG document and for all major non-CTG sources of VOC or NOX emissions within the ozone NAA that it regulates. Any stationary source that emits or has the potential to emit at least 100 tons per year (tpy) of VOCs or NOX is a major stationary source in a Moderate ozone NAA (CAA section 182(b)(2), (f) and 302(j)).

¹ The EPA has since reclassified the San Diego ozone nonattainment area to “Serious” because the EPA determined that the area had not attained the 2008 ozone standard by the “Moderate” applicable attainment date (July 20, 2018) and did not qualify for a 1-year extension of the Moderate area attainment date. 84 FR 44238 (August 23, 2019). SDAPCD will be required to make a separate, updated RACT submittal based on this new classification.

² 80 FR 12264, (March 6, 2015).

Section III.D of the preamble to the EPA's final rule to implement the 2008 ozone NAAQS discusses RACT requirements.² It states, in part, that RACT SIPs must contain adopted RACT regulations, certifications where appropriate that existing provisions are RACT, and/or negative declarations that no sources in the NAA are covered by a specific CTG.³ It also provides that states must submit appropriate supporting information for their RACT submissions as described in the EPA's implementation rule for the 1997 ozone NAAQS.⁴ The submitted 2016 RACT SIP and negative declarations provide SDAPCD's analyses of its compliance with the CAA section 182 RACT requirements for the 2008 ozone NAAQS.

³ Id. at 12278.

⁴ Id. and 70 FR 71612, 71652 (November 29, 2005).

The EPA's technical support document (TSD) has more information about the District's RACT SIP, negative declarations, and the EPA's evaluations thereof. Our TSD is included in the docket materials.

II. The EPA's Evaluation and Action

A. How is the EPA evaluating the submitted document?

SIP rules must require RACT for each category of sources covered by a CTG document and for each major source of VOCs or NOX in ozone NAAs classified as Moderate or above (CAA section 182(b)(2), (f)). At the time of submittal, the SDAPCD regulated a Moderate ozone NAA (40 CFR 81.305) for the 2008 ozone standard, so the District's rules must implement RACT for that standard.

States should also submit for SIP approval negative declarations for those source categories for which they have not adopted CTG-based regulations (because they have no sources above the CTG-recommended applicability threshold), regardless of whether such negative declarations were made for an earlier SIP.⁵ To do so, the submittal should provide reasonable assurance that no sources subject to the CTG requirements currently exist in the portion of the ozone NAA that is regulated by the SDAPCD.

⁵ 57 FR 13498, 13512 (April 16, 1992).

The District's analysis must demonstrate that each major source of VOCs or NOX in the ozone NAA is covered by a RACT-level rule. In addition, for each CTG source category, the District must either demonstrate that a RACT-level rule is in place, or submit a negative declaration. Guidance and policy documents that we use to evaluate CAA section 182 RACT requirements include the following:

1. “State Implementation Plans; General Preamble for the Implementation of Title I of the Clean Air Act Amendments of 1990,” 57 FR 13498 (April 16, 1992); 57 FR 18070 (April 28, 1992).

2. EPA Office of Air Quality Planning and Standards, “Issues Relating to VOC Regulation Cutpoints, Deficiencies, and Deviations,” May 25, 1988 (“the Bluebook,” revised January 11, 1990).

3. EPA Region IX, “Guidance Document for Correcting Common VOC & Other Rule Deficiencies,” August 21, 2001 (“the Little Bluebook”).

4. “State Implementation Plans; Nitrogen Oxides Supplement to the General Preamble; Clean Air Act Amendments of 1990 Implementation of Title I; Proposed Rule,” (the NOX Supplement), 57 FR 55620, (November 25, 1992).

5. Memorandum dated May 18, 2006, from William T. Harnett, Director, Air Quality Policy Division, to Regional Air Division Directors, Subject: “RACT Qs & As—Reasonably Available Control Technology (RACT): Questions and Answers.”

6. “Final Rule to Implement the 8-hour Ozone National Ambient Air Quality Standard—Phase 2,” 70 FR 71612 (November 29, 2005).

7. “Implementation of the 2008 National Ambient Air Quality Standards for Ozone: State Implementation Plan Requirements,” 80 FR 12264 (March 6, 2015).

Rules that are submitted for inclusion into the SIP must be enforceable (CAA section 110(a)(2)), must not interfere with applicable requirements concerning attainment and reasonable further progress or other CAA requirements (CAA section 110(l)), and must not modify certain SIP control requirements in NAAs without ensuring equivalent or greater emissions reductions (CAA section 193).

In addition to the documents listed above, guidance and policy documents that we use to evaluate enforceability, stringency, and revision/relaxation requirements include the following:

1. Control Techniques Guidelines and Alternative Control Techniques Documents for Reducing Ozone-Causing Emissions. https://www.epa.gov/ground-level-ozone-pollution/control-techniques-guidelines-and-alternative-control-techniques.

2. “Model Volatile Organic Compound Rules for Reasonably Available Control Technology,” June 1992.

3. Memorandum dated March 17, 2011, from Scott Mathias, Interim Director, Air Quality Policy Division, U.S. EPA to Regional Air Division Directors, Subject: “Approving SIP Revisions Addressing VOC RACT Requirements for Certain Coatings Categories.”

B. Does the document meet the evaluation criteria?

SDAPCD's 2016 RACT SIP provides the District's demonstration that the applicable SIP for the SDAPCD satisfies CAA section 182 RACT requirements for the 2008 ozone NAAQS. This conclusion is based on the District's analysis of SIP-approved requirements that apply to the following: (1) Source categories for which a CTG has been issued, and (2) major non-CTG stationary sources of VOC or NOX emissions.

With respect to CTG source categories, SDAPCD analyzed in Attachment A of the 2016 RACT SIP those source categories that had sources within the District subject to the recommendations in the various CTGs, and the District rules regulating these sources. Based on our analysis, the EPA concludes that, with the exception of the deficiencies identified in section II.C below and described in more detail in the TSD, SDAPCD's analysis has demonstrated that the required RACT rules are in place. Where there are no existing sources covered by a particular CTG document, or no major non-CTG stationary sources of VOCs or NOX, states may, in lieu of adopting RACT requirements for those sources, adopt negative declarations certifying that there are no such sources in the relevant NAA. In Attachment B of the 2016 RACT SIP, the District lists the CTGs for which it is certifying a negative declaration for the 2008 ozone NAAQS. These negative declarations are re-listed in Table 2 below. The District concludes that it has no sources subject to the specified CTGs based on a review of its permit files and emissions inventory, various print and online business listings, and through consultation with District inspectors and permit engineers.

We reviewed SDAPCD's list of negative declarations in the 2016 RACT SIP Attachment B and the CARB facility database for 2016 to verify the District's conclusion that it has no stationary sources subject to the CTG source categories for which it has adopted a negative declaration. We agree with the District's negative declarations in the 2016 RACT SIP Attachment B, and propose to approve them into the SIP.

Table 2—Negative Declarations
CTG document | CTG document title
EPA-450/2-77-008 | Control of Volatile Organic Emissions from Existing Stationary Sources—Volume II: Surface Coating of Cans, Coils, Paper, Fabrics, Automobiles, and Light-Duty Trucks (Automobiles, and light-duty truck coatings only).a
EPA-450/2-77-025 | Control of Refinery Vacuum Producing Systems, Wastewater Separators, and Process Unit Turnarounds.
EPA-450/2-77-032 | Control of Volatile Organic Emissions from Existing Stationary Sources—Volume III: Surface Coating of Metal Furniture.
EPA-450/2-77-033 | Control of Volatile Organic Emissions from Existing Stationary Sources—Volume IV: Surface Coating of Insulation of Magnet Wire.
EPA-450/2-77-034 | Control of Volatile Organic Emissions from Existing Stationary Sources—Volume V: Surface Coating of Large Appliances.
EPA-450/2-78-030 | Control of Volatile Organic Emissions from Manufacture of Pneumatic Rubber Tires.
EPA-450/2-78-032 | Control of Volatile Organic Emissions from Existing Stationary Sources—Volume VII: Factory Surface Coating of Flat Wood Paneling.
EPA-450/2-78-036 | Control of Volatile Organic Compound Leaks from Petroleum Refinery Equipment.
EPA-450/3-82-009 | Control of Volatile Organic Compound Emissions from Large Petroleum Dry Cleaners.b
EPA-450/3-83-006 | Control of Volatile Organic Compound Leaks from Synthetic Organic Chemical Polymer and Resin Manufacturing Equipment.
EPA-450/3-83-007 | Control of Volatile Organic Compound Equipment Leaks from Natural Gas/Gasoline Processing Plants.
EPA-450/3-83-008 | Control of Volatile Organic Compound Emissions from Manufacture of High-Density Polyethylene, Polypropylene, and Polystyrene Resins.
EPA-450/3-84-015 | Control of Volatile Organic Compound Emissions from Air Oxidation Processes in Synthetic Organic Chemical Manufacturing Industry.
EPA-450/4-91-031 | Control of Volatile Organic Compound Emissions from Reactor Processes and Distillation Operations in Synthetic Organic Chemical Manufacturing Industry.
EPA-453/R-97-004; 59 FR 29216 (6/06/94) | Control of Volatile Organic Compound Emissions from Coating Operations at Aerospace Manufacturing and Rework Operations; Aerospace MACT b.
EPA-453/R-06-004 | Control Techniques Guidelines for Flat Wood Paneling Coatings.
EPA 453/R-07-004 | Control Techniques Guidelines for Large Appliance Coatings.
EPA 453/R-07-005 | Control Techniques Guidelines for Metal Furniture Coatings.
EPA 453/R-08-006 | Control Techniques Guidelines for Automobile and Light-Duty Truck Assembly Coatings.
a SDAPCD claims a negative declaration only for the portions of this CTG related to Automobiles and Light-Duty Trucks.
b Negative declarations for CTG categories where the District states it has facilities, but emissions are below the CTG's applicability threshold.

The 2016 RACT SIP Attachment D—Major Sources in San Diego Country Subject to District Rules lists major sources of VOC emissions and the rules that the District evaluated as applying to those facilities. The two facilities that exceed the major source threshold for VOCs are the San Diego City of Miramar Landfill, and National Steel & Shipbuilding. The District has documented that the 168.5 tpy emissions from the Miramar Landfill are fugitive. The Miramar Landfill therefore does not constitute a major stationary source under the Act, and the District is not required to demonstrate that this source is implementing RACT-level controls.⁶

⁶ 42 U.S.C. 7511a(b)(2), 42 U.S.C. 7602(j).

National Steel & Shipbuilding is a major source of VOC emissions, and is regulated primarily by Rule 67.18. It is therefore evaluated as a CTG source. Accordingly, we conclude that the District does not have any major non-CTG sources of VOCs in the NAA, and must adopt a negative declaration for major non-CTG sources of VOCs.

The District does not list any major sources of NOX. However, we have determined that one facility, Solar Turbines, Inc., is a major source of NOX. As explained in the TSD, we have concluded that this source is currently implementing RACT-level controls. Accordingly, we propose to find that the District has met its RACT obligation for major sources of NOX.

Our review found that certain CTG categories were not addressed by either a negative declaration or a RACT rule. These deficiencies are described in section II.C below and explained in greater detail in the TSD. These approvability issues preclude full approval of the 2016 RACT SIP. Our TSD has more information on our evaluation of the 2016 RACT SIP.

C. What are the deficiencies?

The following provisions do not satisfy the requirements of section 110 and part D of title I of the Act and prevent full approval of the 2016 RACT SIP.

1. Missing negative declaration (or rule) for the following CTG and Major Source categories.

Table 3—Missing Negative Declaration or RACT Rule
EPA document No. | CTG title.
EPA-453/R-08-003 | Miscellaneous Metal and Plastic Parts Coatings, Table 3. Plastic Parts and Products.
EPA-453/R-08-003 | Miscellaneous Metal and Plastic Parts Coatings, Table 4. Automotive/Transportation and Business Machine Plastic Parts.
EPA-453/R-08-003 | Miscellaneous Metal and Plastic Parts Coatings, Table 6. Motor Vehicle Materials.
Not applicable | Non-CTG Major Sources of VOC emissions.

2. Existing rule does not represent RACT for the 2008 ozone standard.

Table 4—CTG Source Rules That Do Not Represent RACT
EPA document No. | CTG title | Remedy
EPA-450/R-75-102 | Design Criteria for Stage I Vapor Control Systems—Gasoline Service Stations | Re-notice Rule 61.3.1.
EPA-450/2-77-026 | Tank Truck Gasoline Loading Terminals | Revise Rule 61.2.
EPA-450/2-78-029 | Manufacture of Synthesized Pharmaceutical Products | Revise Rule 67.15 or submit negative declaration for this CTG source category.
EPA-453/R-06-001 | Industrial Cleaning Solvents | Revise Rule 67.6.1.
EPA-453/R-08-003 | Miscellaneous Metal and Plastic Parts Coatings, Table 5. Pleasure Craft Surface Coating | Revise Rule 67.18 or submit negative declaration for this CTG source category.
EPA-453/R-08-004 | Fiberglass Boat Manufacturing Materials | Revise Rule 67.12.1 or submit negative declaration for this CTG source category.

Our TSD has detailed information on these deficiencies.

D. EPA Recommendations To Further Improve the RACT SIP

Our TSD includes recommendations for future rule improvements and suggested revisions related to the required RACT SIP submittal for the 2015 ozone standard.

E. Public Comment and Proposed Action

Under CAA section 110(k)(3), we propose to partially approve and partially disapprove CARB's submittal of the SDAPCD 2016 RACT SIP, as reflected in Tables 5 and 6. As discussed, the RACT SIP must document current RACT for sources covered by CTGs and for major non-CTG sources of VOC and NOX emissions. We have determined that the 2016 RACT SIP documents RACT for many, but not all, CTG sources and major sources. In addition, the RACT SIP does not include a rule or negative declaration for several CTGs, or a negative declaration for major non-CTG sources of VOCs. For these reasons and the reasons discussed above, we are proposing to partially approve and partially disapprove the District's certification that it has met the RACT requirement for the 2008 8-hour ozone NAAQS as demonstrated in its 2016 RACT SIP.

Table 5—RACT Evaluation for CTG Sources in SDAPCD for the 2008 Ozone Standard Moderate Nonattainment Area
EPA document No. | CTG title | Covered by SIP Rule as current RACT | Neg dec submitted | Proposed action
EPA-450/R-75-102 | Design Criteria for Stage I Vapor Control Systems—Gasoline Service Stations |  |  | Disapproval.a
EPA-450/2-77-008 | Surface Coating of Cans | 67.4 |  | Approval.
EPA-450/2-77-008 | Surface Coating of Coils | 67.4 |  | Approval.
EPA-450/2-77-008 | Surface Coating of Paper | 67.5 |  | Approval.
EPA-450/2-77-008 | Surface Coating of Fabrics | 67.5 |  | Approval.
EPA-450/2-77-008 | Surface Coating of Automobiles and Light-Duty Trucks |  | 4/12/2017 | Approval.
EPA-450/2-77-022 | Solvent Metal Cleaning | 67.6.2 |  | Approval.
EPA-450/2-77-025 | Refinery Vacuum Producing Systems, Wastewater Separators, and Process Unit Turnarounds |  | 4/12/2017 | Approval.
EPA-450/2-77-026 | Tank Truck Gasoline Loading Terminals |  |  | Disapproval.b
EPA-450/2-77-032 | Surface Coating of Metal Furniture |  | 4/12/2017 | Approval.
EPA-450/2-77-033 | Surface Coating of Insulation of Magnet Wire |  | 4/12/2017 | Approval.
EPA-450/2-77-034 | Surface Coating of Large Appliances |  | 4/12/2017 | Approval.
EPA-450/2-77-035 | Bulk Gasoline Plants | 61.2 |  | Approval.
EPA-450/2-77-036 | Storage of Petroleum Liquids in Fixed-Roof Tanks | 61.1 |  | Approval.
EPA-450/2-77-037 | Cutback Asphalt | 67.7 |  | Approval.
EPA-450/2-78-015 | Surface Coating of Miscellaneous Metal Parts and Products | 67.3 |  | Approval.
EPA-450/2-78-029 | Manufacture of Synthesized Pharmaceutical Products |  |  | Disapproval.c
EPA-450/2-78-030 | Manufacture of Pneumatic Rubber Tires |  | 4/12/2017 | Approval.
EPA-450/2-78-032 | Factory Surface Coating of Flat Wood Paneling |  | 4/12/2017 | Approval.
EPA-450/2-78-033 | Graphic Arts-Rotogravure and Flexography | 67.16 |  | Approval.
EPA-450/2-78-036 | Leaks from Petroleum Refinery Equipment |  | 4/12/2017 | Approval.
EPA-450/2-78-047 | Petroleum Liquid Storage in External Floating Roof Tanks | 61.1 |  | Approval.
EPA-450/2-78-051 | Leaks from Gasoline Tank Trucks and Vapor Collection Systems | 61.2 |  | Approval.
EPA-450/3-82-009 | Large Petroleum Dry Cleaners |  | 4/12/2017 | Approval.
EPA-450/3-83-006 | Leaks from Synthetic Organic Chemical Polymer and Resin Manufacturing Equipment |  | 4/12/2017 | Approval.
EPA-450/3-83-007 | Equipment Leaks from Natural Gas/Gasoline Processing Plants |  | 4/12/2017 | Approval.
EPA-450/3-83-008 | Manufacture of High-Density Polyethylene, Polypropylene, and Polystyrene Resins |  | 4/12/2017 | Approval.
EPA-450/3-84-015 | Air Oxidation Processes in Synthetic Organic Chemical Manufacturing Industry |  | 4/12/2017 | Approval.
EPA-450/4-91-031 | Reactor Processes and Distillation Operations in Synthetic Organic Chemical Manufacturing Industry |  | 4/12/2017 | Approval.
EPA-453/R-96-007 | Wood Furniture Manufacturing Operations | 67.11 |  | Approval.
EPA-453/R-94-032, 61 FR 44050; 8/27/96 | ATC—Surface Coating Operations at Shipbuilding and Ship Repair Facilities Shipbuilding and Ship Repair Operations (Surface Coating) | 67.18 |  | Approval.
EPA-453/R-97-004, 59 FR 29216; 6/06/94 | Aerospace MACT and Aerospace (CTG & MACT) |  | 4/12/2017 | Approval.
EPA-453/R-06-001 | Industrial Cleaning Solvents |  |  | Disapproval.d
EPA-453/R-06-002 | Offset Lithographic Printing and Letterpress Printing | 67.16 |  | Approval.
EPA-453/R-06-003 | Flexible Package Printing | 67.16 |  | Approval.
EPA-453/R-06-004 | Flat Wood Paneling Coatings |  | 4/12/2017 | Approval.
EPA-453/R-07-003 | Paper, Film, and Foil Coatings | 67.5 |  | Approval.
EPA-453/R-07-004 | Large Appliance Coatings |  | 4/12/2017 | Approval.
EPA-453/R-07-005 | Metal Furniture Coatings |  | 4/12/2017 | Approval.
EPA-453/R-08-003 | Miscellaneous Metal and Plastic Parts Coatings, Table 2. Metal Parts and Products | 67.3 |  | Approval.
EPA-453/R-08-003 | Miscellaneous Metal and Plastic Parts Coatings, Table 3. Plastic Parts and Products |  |  | Disapproval.e
EPA-453/R-08-003 | Miscellaneous Metal and Plastic Parts Coatings, Table 4. Automotive/Transportation and Business Machine Plastic Parts |  |  | Disapproval.f
EPA-453/R-08-003 | Miscellaneous Metal and Plastic Parts Coatings, Table 5. Pleasure Craft Surface Coating |  |  | Disapproval.g
EPA-453/R-08-003 | Miscellaneous Metal and Plastic Parts Coatings, Table 6. Motor Vehicle Materials |  |  | Disapproval.h
EPA-453/R-08-004 | Fiberglass Boat Manufacturing Materials |  |  | Disapproval.i
EPA-453/R-08-005 | Miscellaneous Industrial Adhesives | 67.21 |  | Approval.
EPA-453/R-08-006 | Automobile and Light-Duty Truck Assembly Coatings |  | 4/12/2017 | Approval
a As explained in greater detail in the TSD, Rule 61.3.1, which regulates sources in this category, was not properly noticed, and is thus not approvable. The District intends to re-notice Rule 61.3.1, which together with 61.3 would establish current RACT for this category.
b The applicable rule is Rule 61.2, which does not establish RACT because of several deficiencies described in detail in the TSD.
c As described in greater detail in the TSD, Rule 67.15 has deficiencies that prevent it from establishing RACT level controls. The District has determined that there are no sources that meet the CTG applicability threshold and plans to submit a negative declaration for both the 2008 and 2015 ozone standards.
d As explained in greater detail in the TSD, the applicable rule for this category is Rule 67.6.1, but this rule does not establish RACT because of an inappropriate NESHAP exemption.
e No adopted applicable RACT rule or adopted negative declaration for 2008 ozone standard.
f No adopted applicable RACT rule or adopted negative declaration for 2008 ozone standard.
g As explained in greater detail in the TSD, the applicable rule for this category is Rule 67.18, but this rule does not establish RACT based on the recommended controls for pleasure craft coatings in the CTG for Miscellaneous Metal and Plastic Parts Coatings (2008).
h No adopted applicable RACT rule or adopted negative declaration for 2008 ozone standard.
i As explained in greater detail in the TSD, the applicable rule is Rule 67.12.1, but this rule does not establish RACT based on the Fiberglass Boat CTG (2008) recommended controls for fiberglass boat coatings.

Table 6—RACT Evaluation for Major Non-CTG VOC/NOX Sources in SDAPCD for the 2008 Ozone Standard Moderate Nonattainment Area ⁷
Category | Major sources in District? | Covered by SIP rule as current RACT | Neg Dec | Proposed action
Major (100+ tpy) non-CTG VOC sources | None listed a | N/A |  | Disapproval.
Major (100+ tpy) NOx sources | Yes | N/A |  | Approval.
a The only major VOC source listed by the District is National Steel & Shipbuilding, which is a CTG source. Therefore, there appears to be no non-CTG major sources of VOC in the District and the District should adopt a negative declaration for major non-CTG VOC sources.

The EPA is committed to working with CARB and SDAPCD to resolve the identified RACT deficiencies. However, should we finalize the proposed partial disapproval of the elements identified in Tables 5 and 6 for of the 2016 RACT SIP, the action would trigger a 2-year clock for the federal implementation plan (FIP) requirement under section 110(c). In addition, final disapproval would trigger the offset section in CAA section 179(b)(2) 18 months after the effective date of a final disapproval, and the highway funding sanctions in CAA section 179(b)(1) would apply in the area six months after the offset sanction is imposed. Neither sanction will be imposed under the CAA if the State submits and we approve, prior to the implementation of the sanctions, a SIP revision that corrects the deficiencies that we identify in our final action. We will accept comments from the public on the proposed partial approval and partial disapproval for the 2016 RACT SIP for the next 30 days. If finalized, this action would add to the California SIP as additional materials those portions of the 2016 RACT SIP and negative declarations associated with approvals in Tables 5 and 6.

⁷ See section 3.1 of the TSD.

III. Statutory and Executive Order Reviews

Additional information about these statutes and Executive Orders can be found at http://www2.epa.gov/laws-regulations/laws-and-executive-orders.

A. Executive Order 12866: Regulatory Planning and Review and Executive Order 13563: Improving Regulation and Regulatory Review

This action is not a significant regulatory action and was therefore not submitted to the Office of Management and Budget (OMB) for review.

B. Executive Order 13771: Reducing Regulations and Controlling Regulatory Costs

This action is not expected to be an Executive Order 13771 regulatory action because this action is not significant under Executive Order 12866.

C. Paperwork Reduction Act (PRA)

This action does not impose an information collection burden under the PRA because this action does not impose additional requirements beyond those imposed by state law.

D. Regulatory Flexibility Act (RFA)

I certify that this action will not have a significant economic impact on a substantial number of small entities under the RFA. This action will not impose any requirements on small entities beyond those imposed by state law.

E. Unfunded Mandates Reform Act (UMRA)

This action does not contain any unfunded mandate as described in UMRA, 2 U.S.C. 1531-1538, and does not significantly or uniquely affect small governments. This action does not impose additional requirements beyond those imposed by state law. Accordingly, no additional costs to state, local, or tribal governments, or to the private sector, will result from this action.

F. Executive Order 13132: Federalism

This action does not have federalism implications. It will not have substantial direct effects on the states, on the relationship between the national government and the states, or on the distribution of power and responsibilities among the various levels of government.

G. Executive Order 13175: Coordination With Indian Tribal Governments

This action does not have tribal implications, as specified in Executive Order 13175, because the SIP is not approved to apply on any Indian reservation land or in any other area where the EPA or an Indian tribe has demonstrated that a tribe has jurisdiction, and will not impose substantial direct costs on tribal governments or preempt tribal law. Thus, Executive Order 13175 does not apply to this action.

H. Executive Order 13045: Protection of Children From Environmental Health Risks and Safety Risks

The EPA interprets Executive Order 13045 as applying only to those regulatory actions that concern environmental health or safety risks that the EPA has reason to believe may disproportionately affect children, per the definition of “covered regulatory action” in section 2-202 of the Executive Order. This action is not subject to Executive Order 13045 because it does not impose additional requirements beyond those imposed by state law.

I. Executive Order 13211: Actions That Significantly Affect Energy Supply, Distribution, or Use

This action is not subject to Executive Order 13211, because it is not a significant regulatory action under Executive Order 12866.

J. National Technology Transfer and Advancement Act (NTTAA)

Section 12(d) of the NTTAA directs the EPA to use voluntary consensus standards in its regulatory activities unless to do so would be inconsistent with applicable law or otherwise impractical. The EPA believes that this action is not subject to the requirements of section 12(d) of the NTTAA because application of those requirements would be inconsistent with the CAA.

K. Executive Order 12898: Federal Actions To Address Environmental Justice in Minority Populations and Low-Income Population

The EPA lacks the discretionary authority to address environmental justice in this rulemaking.

List of Subjects in 40 CFR Part 52

Environmental protection, Air pollution control, Incorporation by reference, Intergovernmental relations, Ozone, Reporting and recordkeeping requirements, Volatile organic compounds.

Authority: 42 U.S.C. 7401 et seq.

Dated: July 22, 2020.
John Busterud,
Regional Administrator, Region IX.

[FR Doc. 2020-16279 Filed 8-7-20; 8:45 am]

BILLING CODE 6560-50-P